DEPARTMENT OF THE INTERIOR

Fish and Wildlife Service

Meeting of the Klamath Fishery Management Council

AGENCY: Fish and Wildlife Service, Interior.

ACTION: Notice of meeting.

SUMMARY: Pursuant to section 10(a)(2) of the Federal Advisory Committee Act (5 U.S.C. App. I), this notice announces a meeting of the Klamath Fishery Management Council, established under the authority of the Klamath River Basin Fishery Resources Restoration Act (16 U.S.C. 460ss et seq.). The Klamath Fishery Management Council makes recommendations to agencies that regulate harvest of anadromous fish in the Klamath River Basin. This objectives of this meeting are to hear technical reports, review the 1999 fishery season, and discuss and plan management of the 2000 season. The meeting is open to the public.

DATES: The Klamath Fishery Management Council will meet from 1:00 p.m. to 5:00 p.m. on Wednesday, February 23, 2000; from 8:00 a.m. to 5:00 p.m. on Thursday, February 24, 2000; and from 8:00 a.m. to 12:00 p.m. on Friday, February 25, 2000.

PLACE: The meeting will be held at the Best Western Beachfront Harbor, 16008 Boat Basin Rd., Harbor, Oregon.

FOR FURTHER INFORMATION CONTACT: Dr. Ronald A. Iverson, Project Leader, U.S. Fish and Wildlife Service, P.O. Box 1006 (1215 South Main), Yreka, California 96097-1006, telephone (530) 842-5763.

SUPPLEMENTARY INFORMATION: For background information on the Klamath Council, please refer to the notice of their initial meeting that appeared in the Federal Register on July 8, 1987 (52 FR 25639).

Dated: January 14, 2000.
Elizabeth H. Stevens,
Acting Manager, California/Nevada Operations.

[FR Doc. 00-1761 Filed 1-25-00; 8:45 am]

BILLING CODE 4310-55-U